DEPARTMENT OF TRANSPORTATION

Federal Aviation Administration

14 CFR Part 39

[Docket No. FAA-2004-19448; Directorate Identifier 2004-NM-134-AD; Amendment 39-14011; AD 2005-06-03]

RIN 2120-AA64

Airworthiness Directives; McDonnell Douglas Model MD-90-30 Airplanes

AGENCY: Federal Aviation Administration (FAA), Department of Transportation (DOT).

ACTION: Final rule.

SUMMARY: The FAA is adopting a new airworthiness directive (AD) for all McDonnell Douglas Model MD-90-30 airplanes. This AD requires replacing, with improved parts, certain existing fluorescent light lamp holders located in the ceiling panels and life raft ceiling support housings, and behind the overhead stowage compartments in the main cabin. This AD is prompted by reports of failure of fluorescent light lamp holders in the main cabin. We are issuing this AD to prevent chafing of the lamp holder power wire against the mounting bracket, and moisture intrusion into the lamp holders, which could result in failure of the lamp holders and consequent smoke and fire in the airplane cabin.

DATES: This AD becomes effective April 20, 2005.

The incorporation by reference of certain publications listed in the AD is approved by the Director of the Federal Register as of April 20, 2005.

ADDRESSES: For service information identified in this AD, contact Boeing Commercial Airplanes, Long Beach Division, 3855 Lakewood Boulevard, Long Beach, California 90846, Attention: Data and Service Management, Dept. C1-L5A (D800-0024).

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19448; the directorate identifier for this docket is 2004-NM-134-AD.

FOR FURTHER INFORMATION CONTACT: George Mabuni, Aerospace Engineer, Systems and Equipment Branch, ANM-130L, FAA, Los Angeles Aircraft Certification Office, 3960 Paramount Boulevard, Lakewood, California 90712-4137; telephone (562) 627-5341; fax (562) 627-5210.

SUPPLEMENTARY INFORMATION: The FAA proposed to amend 14 CFR Part 39 with an AD for all McDonnell Douglas Model MD-90-30 airplanes. That action, published in the Federal Register on October 26, 2004 (69 FR 62424), proposed to require replacing, with improved parts, certain existing fluorescent light lamp holders located in the ceiling panels and life raft ceiling support housings, and behind the overhead stowage compartments in the main cabin.

Comments

We provided the public the opportunity to participate in the development of this AD. We have considered the single comment submitted on the proposed AD.

Request To Specify Part Numbers of Existing and Replacement Lamp Holders

The commenter requests that we revise the proposed AD to specify the part numbers of fluorescent light lamp holders determined to be defective and the part numbers of acceptable replacement fluorescent light lamp holders. The commenter states that there may be other acceptable replacement parts, but this is difficult to determine without knowing the part numbers.

We concur. The part numbers of the defective and replacement fluorescent light lamp holders are identified in C & D Aerospace Alert Service Bulletins 59406XX-25A01, currently at Revision 4, dated July 31, 2003; and 51310XX-25A01, currently at Revision 5, dated March 30, 2004. The proposed AD refers to those service bulletins as additional sources of instructions for accomplishing the replacement. For the convenience of affected operators, we have revised paragraphs (f) and (g) of this AD to include the relevant part numbers.

Conclusion

We have carefully reviewed the available data, including the comment that was submitted, and determined that air safety and the public interest require adopting the AD with the changes described previously. We have determined that these changes will neither increase the economic burden on any operator nor increase the scope of the AD.

Costs of Compliance

This AD will affect about 84 airplanes worldwide and 21 airplanes of U.S. registry. The required actions will take about 98 work hours per airplane, at an average labor rate of $65 per work hour. Required parts will cost about $27,158 per airplane. Based on these figures, the estimated cost of this AD for U.S. operators is $704,088, or $33,528 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-06-03 McDonnell Douglas: Amendment 39-14011. Docket No. FAA-2004-19448; Directorate Identifier 2004-NM-134-AD.

Effective Date

(a) This AD becomes effective April 20, 2005.

Affected ADs

(b) None.

Applicability

(c) This AD applies to all Model MD-90-30 airplanes, certificated in any category.

Unsafe Condition

(d) This AD was prompted by reports of failure of fluorescent light lamp holders in the main cabin. We are issuing this AD to prevent chafing of the lamp holder power wire against the mounting bracket, and moisture intrusion into the lamp holders, which could result in failure of the lamp holders and consequent smoke and fire in the airplane cabin.

Compliance

(e) You are responsible for having the actions required by this AD performed within the compliance times specified, unless the actions have already been done.

Replacement

(f) Within 18 months after the effective date of this AD, replace existing fluorescent light lamp holders manufactured by Page Aerospace Limited, part numbers (P/Ns) C779-02-001 and C779-09-001, with improved parts manufactured by Bruce Industries Incorporated, P/Ns BV04055-01-12 and BV04055N-01-12, as specified in Table 1 of this AD.

Table 1.—Replacement of Lamp Holders
Replace lamp holders in these locations— | In accordance with this service information— | Which refers to this service information as an additional source of replacement instructions—
(1) Ceiling panels and life raft ceiling support housings | Boeing Alert Service Bulletin MD90-33A012, Revision 3, dated January 14, 2004 | C & D Aerospace Alert Service Bulletin 59406XX-25A01; currently at Revision 4, dated July 31, 2003.
(2) Sidewall behind the overhead stowage compartments in the main cabin | Boeing Alert Service Bulletin MD90-33A013, dated November 29, 2001 | C & D Aerospace Alert Service Bulletin 51310XX-25A01; currently at Revision 5, dated March 30, 2004.

Parts Installation

(g) As of the effective date of this AD, no person may install a fluorescent light lamp holder manufactured by Page Aerospace Limited and having P/N C779-02-001 or C779-09-001, in the locations specified in this AD, on any airplane.

Replacements Accomplished Per Previous Issues of Service Bulletin

(h) Replacements accomplished before the effective date of this AD per the Accomplishment Instructions of Boeing Alert Service Bulletin MD90-33A012, dated March 28, 2001; Revision 01, dated September 17, 2001; or Revision 02, dated January 17, 2002; are considered acceptable for compliance with paragraph (f) of this AD.

Alternative Methods of Compliance (AMOCs)

(i) The Manager, Los Angeles Aircraft Certification Office (ACO), FAA, has the authority to approve AMOCs for this AD, if requested in accordance with the procedures found in 14 CFR 39.19.

Material Incorporated by Reference

(j) You must use the service information that is specified in Table 2 of this AD to perform the actions that are required by this AD, unless the AD specifies otherwise. The Director of the Federal Register approves the incorporation by reference of those documents in accordance with 5 U.S.C. 552(a) and 1 CFR part 51. For copies of the service information, contact Boeing Commercial Airplanes, Long Beach Division, 3855 Lakewood Boulevard, Long Beach, California 90846, Attention: Data and Service Management, Dept. C1-L5A (D800-0024). For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Table 2.—Material Incorporated by Reference
Service bulletin | Revision level | Date
Boeing Alert Service Bulletin MD90-33A012 | 3 | January 14, 2004.
Boeing Alert Service Bulletin MD90-33A013 | Original | November 29, 2001.

Issued in Renton, Washington, on March 7, 2005.
Ali Bahrami,
Manager, Transport Airplane Directorate, Aircraft Certification Service.

[FR Doc. 05-5016 Filed 3-15-05; 8:45 am]

BILLING CODE 4910-13-P